DEPARTMENT OF HEALTH AND HUMAN SERVICES

Centers for Disease Control And Prevention

[60Day-00-36]

Proposed Data Collections Submitted for Public Comment and Recommendations

In compliance with the requirement of section 3506 (c)(2)(A) of the Paperwork Reduction Act of 1995, the Centers for Disease Control and Prevention is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Seleda Perryman, CDC Assistant Reports Clearance Officer, 1600 Clifton Road, MS-D24, Atlanta, GA 30333. Written comments should be received within 60 days of this notice.

Proposed Projects

Youth Risk Behavior Survey—(0920-0258)—Renewal—National Center for Chronic Disease Prevention and Health Promotion (NCCDPHP). The proposed project is the 2001 national school-based Youth Risk Behavior Survey. The purpose of this request is to renew OMB clearance to continue an ongoing biennial survey among high school students attending regular public, private, and Catholic schools in grades 9-12. The survey assesses priority heath risk behaviors related to the major preventable causes of mortality, morbidity, and social problems among both youth and adults in the U.S. OMB clearance for the 1999 survey expired January 2000 (OMB No. 0920-0258, expiration 01/00). Data on the health risk behaviors of adolescents is the focus of approximately 40 national health objectives in Healthy People 2010. The Youth Risk Behavior Survey provides data to measure at least 10 of these health objectives and 3 of the 10 Leading Health Indicators. In addition, the Youth Risk Behavior Survey can identify racial and ethnic disparities in health risk behaviors. No other national source of data measures as many of the 2010 objectives that address behaviors of adolescents. The data also will have significant implications for policy and program development for school health programs nationwide.

The total estimated cost to student respondents is $47,250, which is calculated in terms of their time spent in responding to the survey and is based on an assumed minimum wage of $5.25/hour for the 1999-2000 school year. The total estimated cost to school administrators is $5,882 which is calculated in terms of their time spent in recruitment and is based on an assumed average hourly rate of $34. Thus, the total costs to respondents, based on the costs of their time, are $53,132.

Respondents | Number of respondents | Number of responses per respondent | Burden per response (in hours) | Total burden hours.
High school students | 12,000 | 1 | 0.75 | 9,000
School administrators | 345 | 1 | 0.50 | 173
Total | 12,345 |  |  | 9,173

Dated: April 28, 2000.
Charles W. Gollmar,
Acting Associate Director for Policy Planning and Evaluation, Centers for Disease Control and Prevention.

[FR Doc. 00-11095 Filed 5-3-00; 8:45 am]

BILLING CODE 4163-18-P